DEPARTMENT OF ENERGY

Federal Energy Regulatory Commission

[Docket No. EG01-267-000, et al.]

Ameren Energy Generating Company, et al.; Electric Rate and Corporate Regulation Filings

July 30, 2001.

Take notice that the following filings have been made with the Commission:

1. Ameren Energy Generating Company

[Docket No. EG01-267-000]

Take notice that on July 24, 2001, Ameren Energy Generating Company (AEG), One Ameren Plaza, 1901 Chouteau Plaza, P.O. Box 66149, St. Louis, Missouri, 63166-6149, filed with the Federal Energy Regulatory Commission (Commission) an application for determination of continuing exempt wholesale generator status pursuant to Part 365 of the Commission's Regulations.

AEG states that it acquired the following units, which began commercial operations within the last 60 days, as further detailed in the application: Kinmundy, Illinois Unit No. 2; Pinckneyville, Illinois Unit Nos. 5, 6, and 7; and Columbia, Missouri Unit Nos. 2, 3, and 4. In addition, AEG has also repowered one coal-fired steam-electric generating unit at its Grand Tower, Illinois facility with a gas-fired combustion turbine, the commercial operation date of which was June 29, 2001. AEG states that all of the electric energy from these facilities will be sold at wholesale.

Comment date: August 20, 2001, in accordance with Standard Paragraph E at the end of this notice. The Commission will limit its consideration of comments to those that concern the adequacy or accuracy of the application.

2. Wygen Funding, Limited Partnership

[Docket No. EG01-268-000]

Take notice that on July 23, 2001 Wygen Funding, Limited Partnership (Wygen Funding) filed with the Federal Energy Regulatory Commission (Commission) an application for determination of exempt wholesale generator status pursuant to Part 365 of the Commission's regulations. The eligible facilities consist of an 80 MW (summer rating) coal plant located in Campbell County, Wyoming near Gillette, Wyoming and a step-up transformer. The address of Wygen Funding's principal business office is c/o ML Leasing Equipment Group, 95 Greene Street, 7th Floor, Jersey City, New Jersey 07302.

Comment date: August 20, 2001, in accordance with Standard Paragraph E at the end of this notice. The Commission will limit its consideration of comments to those that concern the adequacy or accuracy of the application.

3. Chehalis Power Generating, L.P.

[Docket No. EG01-269-000]

Take notice that on July 23, 2001, Chehalis Power Generating, L.P. (Applicant), having its principal place of business at 1177 West Loop South, Suite 900, Houston, Texas 77027, tendered for filing with the Federal Energy Regulatory Commission (Commission) an application for determination of exempt wholesale generator status pursuant to Part 365 of the Commission's regulations.

Applicant will own and operate a generating facility in Lewis County, Washington, consisting of two natural gas-fired combined-cycle combustion turbine generator units and a steam turbine generator, having a nominal output of 520 MW.

Comment date: August 20, 2001, in accordance with Standard Paragraph E at the end of this notice. The Commission will limit its consideration of comments to those that concern the adequacy or accuracy of the application.

4. Canastota Windpower, LLC

[Docket No. EG01-270-000]

Take notice that on July 26, 2001, Canastota Windpower LLC (Canastota) tendered for filing with the Federal Energy Regulatory Commission (Commission) an application for determination of exempt wholesale generator status pursuant to Part 365 of the Commission's regulations.

Canastota is developing a wind-powered eligible facility with a capacity of 30 megawatts, powered by twenty (20) wind turbine generators, which will be located in Madison County, New York.

Comment date: August 20, 2001, in accordance with Standard Paragraph E at the end of this notice. The Commission will limit its consideration of comments to those that concern the adequacy or accuracy of the application.

5. Doswell Limited Partnership

[Docket No. ER01-2669-000]

On July 25, 2001, Doswell Limited Partnership (Doswell) filed with the Commission an executed Service Agreement (the Service Agreement) between Doswell and Virginia Electric and Power Company, dated June 28, 2001.

Comment date: August 15, 2001, in accordance with Standard Paragraph E at the end of this notice.

6. American Electric Power Service Corporation

[Docket No. EC01-130-000]

Take notice that on July 24, 2001, American Electric Power Service Corporation (AEPSC), acting on behalf of certain electric utility subsidiaries of American Electric Power Company, Inc., (AEP) submitted an application for approval for the transfer of certain jurisdictional facilities among AEP subsidiaries, pursuant to Section 203 of the Federal Power Act (Act), 16 U.S.C. 824b (1994), and Part 33 of the Regulations of the Federal Energy Regulatory Commission (Commission), as revised pursuant to Order No. 642, FERC Stats. & Regs. ¶ 31,111 (2000). Such transfers are proposed to be made to comply with electric utility restructuring laws of Ohio and Texas and to foster the development of competitive electric markets consistent with such state laws. AEPSC states that a copy of the filing has been served on the public service commissions of Ohio, Texas, Arkansas, Indiana, Kentucky, Louisiana, Michigan, Tennessee, Virginia, West Virginia and Oklahoma.

Comment date: August 14, 2001, in accordance with Standard Paragraph E at the end of this notice.

7. Southern Company Services, Inc.

[Docket No. ER01-2670-000]

Take notice that on July 25, 2001, Southern Company Services, Inc. (SCS), acting on behalf of Alabama Power Company (APC), tendered for filing an Interconnection Agreement (IA) by and between APC and Southern Power Company (Southern Power) for Autaugaville CC Unit 2. The IA allows Southern Power to interconnect its Autaugaville CC Unit 2 generating facility to be located in Autuauga County, Alabama, to APC's electric system.

A copy of this filing has been sent to Southern Power.

Comment date: August 15, 2001, in accordance with Standard Paragraph E at the end of this notice.

8. Southern Company Services, Inc.

[Docket No. ER01-2671-000]

Take notice that on July 25, 2001, Southern Company Services, Inc. (SCA), acting on behalf of Alabama Power Company (APC), tendered for filing an Interconnection Agreement (IA) by and between APC and Souther Power Company (Souther Power) for Autuaugaville CC Unite 1, The IA allows Souther Power to interconnect its Autaugaville CC Unite 1 generating facility to be located in Autauga County, Alabama to PAC's electric system.

An effective date of June 25, 2001 has been requested.

Comment date: August 15, 2001, in accordance with Standard Paragraph E at the end of this notice.

9. Idaho Power Company

[Docket No. ER01-2672-000]

Take notice that on July 25, 2001, Idaho Power Company filed Generator Interconnection and Operating Agreement between Idaho Power Company and Emmett Power Company, under its open access transmission tariff in the above-captioned proceeding.

Comment date: August 15, 2001, in accordance with Standard Paragraph E at the end of this notice.

10. Indianapolis Power & Light Company

[Docket No. ER01-2673-000]

Take notice that on July 25, 2001, Indianapolis Power & Light Company filed a Service Agreement for Firm Point-to-Point Transmission Service between Indianapolis Power & Light Company and Axia Energy, LP, under its open access transmission tariff in the above-captioned proceeding.

Comment date: August 15, 2001, in accordance with Standard Paragraph E at the end of this notice.

11. Indianapolis Power & Light Company

[Docket No. ER01-2674-000]

Take notice that on July 25, 2001, Indianapolis Power & Light Company filed a Service Agreement for Non-Firm Point-to-Point Transmission Service between Indianapolis Power & Light Company and Axia Energy, LP, under its open access transmission tariff in the above-captioned proceeding.

Comment date: August 15, 2001, in accordance with Standard Paragraph E at the end of this notice.

12. Sierra Pacific Power Company/Nevada Power Company

[Docket No. ER01-2677-000]

Take notice that on July 25, 2001, Sierra Pacific Power Company and Nevada Power Company (jointly Operating Companies) tendered for filing Service Agreements (Service Agreements) with the following entities for Non-Firm and/or Short-Term Firm Point-to-Point Transmission Service under Sierra Pacific Resources Operating Companies FERC Electric Tariff, First Revised Volume No. 1, Open Access Transmission Tariff (Tariff). PPL EnergyPlus, LLC (Short-Term and Non-Firm) and Pinnacle West Capital Corporation, Pinnacle West Marketing & Trading (Short-Term and Non-Firm.

The Operating Companies are filing the executed Service Agreements with the Commission in compliance with Sections 13.4 and 14.4 of the Tariff and applicable Commission regulations. The Operating Companies also submitted revised Sheet Nos. 195A and 196 (Attachment E) to the Tariff, which is an updated list of current subscribers. The Operating Companies request waiver of the Commission's notice requirements to permit an effective date of July 26, 2001 for Attachment E, and to allow the Service Agreements to become effective according to their terms.

Copies of this filing were served upon the Public Utilities Commission of Nevada, the Public Utilities Commission of California and all interested parties.

Comment date: August 15, 2001, in accordance with Standard Paragraph E at the end of this notice.

13. Louisville Gas And Electric Company/Kentucky Utilities Company

[Docket No. ER01-2678-000]

Take notice that on July 25, 2001, Louisville Gas and Electric Company (LG&E)/Kentucky Utilities (KU) (hereinafter Companies) tendered for filing an executed unilateral Service Sales Agreement between Companies and Conoco Gas and Power Marketing under the Companies' Rate Schedule MBSS.

Comment date: August 15, 2001, in accordance with Standard Paragraph E at the end of this notice.

14. Indianapolis Power & Light Company

[Docket No. ER01-2675-000]

Take notice that on July 25, 2001, Indianapolis Power & Light Company filed a Service Agreement for Firm Point-to-Point Transmission Service between Indianapolis Power & Light Company and Dayton Power & Light Company, under its open access transmission tariff in the above-captioned proceeding.

Comment date: August 15, 2001, in accordance with Standard Paragraph E at the end of this notice.

15. Louisville Gas And Electric Company/Kentucky Utilities Company

[Docket No. ER01-2679-000]

Take notice that on July 25, 2001, Louisville Gas and Electric Company (LG&E)/Kentucky Utilities (KU) (hereinafter Companies) tendered for filing executed transmission service agreement with Hoosier Energy REC, Inc. The agreement allows Hoosier Energy REC, Inc. to take network integration transmission service from LG&E/KU.

Comment date: August 15, 2001, in accordance with Standard Paragraph E at the end of this notice.

16. Idaho Power Company

[Docket No. ER01-2680-000]

Take notice that on July 25, 2001, Idaho Power Company filed a Service Agreement for Firm Point-to-Point Transmission Service between Idaho Power Delivery and Idaho Power Marketing, under its open access transmission tariff in the above-captioned proceeding.

Comment date: August 15, 2001, in accordance with Standard Paragraph E at the end of this notice.

17. Elwood Energy III, LLC

[Docket No. ER01-2681-000]

Take notice that on July 25, 2001, Elwood Energy III, LLC tendered for filing a service agreement for sales of energy and capacity to Aquila Energy Marketing Corporation and UtiliCorp United Inc.

Comment date: August 15, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-19441 Filed 8-2-01; 8:45 am]

BILLING CODE 6717-01-P